FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 009585N.

Name: 21st Century Maritime, Inc.

Address: PO Box 40056, 254-15 83rd Ave., Glen Oaks, NY 11004.

Date Revoked: December 16, 2009.

Reason: Surrendered license voluntarily.

License Number: 002005F.

Name: Commercial International Forwarding, Inc.

Address: 309 Charleston Place, Hurst, TX 76054.

Date Revoked: January 1, 2010.

Reason: Surrendered license voluntarily.

License Number: 021442N.

Name: FERM Holdings, Inc.

Address: 3640 NW 115th Ave., Miami, FL 33178.

Date Revoked: December 15, 2009.

Reason: Surrendered license voluntarily.

Sandra L. Kusumoto,
Director, Bureau of Certification and Licensing.

[FR Doc. 2010-1078 Filed 1-20-10; 8:45 am]

BILLING CODE 6730-01-P